ENVIRONMENTAL PROTECTION AGENCY

40 CFR Part 300

[EPA-HQ-SFUND-1994-0001; FRL-9999-91-Region 4]

National Oil and Hazardous Substances Pollution Contingency Plan; National Priorities List: Partial Deletion of the Escambia Wood—Pensacola Superfund Site

AGENCY: Environmental Protection Agency (EPA).

ACTION: Final rule.

SUMMARY: The Environmental Protection Agency (EPA) Region 4 announces the deletion of 50 acres of the Escambia Wood—Pensacola Superfund Site (Site) located in Pensacola, Florida, from the National Priorities List (NPL). The NPL, promulgated pursuant to section 105 of the Comprehensive Environmental Response, Compensation, and Liability Act (CERCLA) of 1980, as amended, is an appendix of the National Oil and Hazardous Substances Pollution Contingency Plan (NCP). This partial deletion pertains to 50 acres of former residential property in the former neighborhoods of Oak Park, Escambia Arms, Herman & Pearl and Clarinda Triangle, part of Operable Unit One (soils). The remaining areas of Operable Unit One (about 50 acres) and Operable Unit Two (groundwater) will remain on the NPL and are not being considered for deletion as part of this action. The EPA and the State of Florida, through the Florida Department of Environmental Protection (FDEP), have determined that all appropriate response actions under CERCLA, other than five-year reviews and operation and maintenance, have been completed. However, this partial deletion does not preclude future actions under Superfund.

DATES: This action is effective September 24, 2019.

ADDRESSES: EPA has established a docket for this action under Docket Identification No. EPA-HQ-SFUND-1994-0001. All documents in the docket are listed on the http://www.regulations.gov website. Although listed in the index, some information is not publicly available, i.e., Confidential Business Information or other information whose disclosure is restricted by statute. Certain other material, such as copyrighted material, is not placed on the internet and will be publicly available only in hard copy form. Publicly available docket materials are available either electronically through http://www.regulations.gov or in hard copy at the site information repositories. Locations, contacts, phone numbers and viewing hours are:

U.S. EPA Region 4, Superfund & Emergency Management Divison Records Center, 61 Forsyth Street SW, Atlanta, Georgia 30303, (800) 435-9234 Hours of operation: Monday-Friday 8 a.m. to 4:30 p.m.

West Florida Genealogy Branch Library, 5740 N Ninth Ave., Pensacola, Florida, 32504. (850) 494-7373 Hours of operation—Tuesday-Saturday 10 a.m. to 6 p.m.

FOR FURTHER INFORMATION CONTACT: Erik Spalvins, Remedial Project Manager, U.S. Environmental Protection Agency, Region 4, 61 Forsyth Street SW, Atlanta, GA 30303, (404) 562-8938, email: spalvins.erik@epa.gov.

SUPPLEMENTARY INFORMATION: The portion of the site to be deleted from the NPL is: 50 Acres of former residential property (in the former neighborhoods of Oak Park, Escambia Arms, Herman & Pearl and Clarinda Triangle) of the Escambia Wood—Pensacola Superfund Site, Pensacola, Florida. A Notice of Intent for Partial Deletion for this Site was published in the Federal Register (84 FR 35059) on July 22, 2019.

The closing date for comments on the Notice of Intent for Partial Deletion was August 21, 2019. No adverse public comments were received, and EPA will proceed with the partial deletion.

EPA maintains the NPL as the list of sites that appear to present a significant risk to public health, welfare, or the environment. Deletion of a site from the NPL does not preclude further remedial action. Whenever there is a significant release from a site deleted from the NPL, the deleted site may be restored to the NPL without application of the hazard ranking system. Deletion of portions of a site from the NPL does not affect responsible party liability, in the unlikely event that future conditions warrant further actions.

List of Subjects in 40 CFR Part 300

Environmental protection, Air pollution control, Chemicals, Hazardous waste, Hazardous substances, Intergovernmental relations, Penalties, Reporting and recordkeeping requirements, Superfund, Water pollution control, Water supply.

Dated: September 6, 2019.
Mary S. Walker,
Regional Administrator, Region 4.

For reasons set out in the preamble, 40 CFR part 300 is amended as follows:

PART 300—NATIONAL OIL AND HAZARDOUS SUBSTANCES POLLUTION CONTINGENCY PLAN

1. The authority citation for part 300 continues to read as follows:

Authority: 33 U.S.C. 1321(d); 42 U.S.C. 9601-9657; E.O. 13626, 77 FR 56749, 3 CFR, 2013 Comp., p. 306; E.O. 12777, 56 FR 54757, 3 CFR, 1991 Comp., p. 351; E.O. 12580, 52 FR 2923, 3 CFR, 1987 Comp., p. 193.

2. Table 1 of appendix B to part 300 is amended by revising the entry for “FL”, “Escambia Wood—Pensacola”, “Pensacola” to read as follows:

Appendix B to Part 300—National Priorities List

Table 1—General Superfund Section
State | Site name | City/county | Notes ᵃ
* * * * * * *
FL | Escambia Wood—Pensacola | Pensacola | P.
* * * * * * *
ᵃ = Based on issuance of health advisory by Agency for Toxic Substances and Disease Registry (if scored, HRS score need not be greater than or equal to 28.50).
* * * * * * *
P = Sites with partial deletion(s).

* * * * *

[FR Doc. 2019-20347 Filed 9-23-19; 8:45 am]

BILLING CODE 6560-50-P